DEPARTMENT OF COMMERCE

Bureau of Industry and Security

[Docket No. 080507636-8637-01]

Revisions to the Unverified List—Guidance as to “Red Flags” Under Supplement No. 3 to 15 CFR Part 732

AGENCY: Bureau of Industry and Security, Commerce.

ACTION: Notice.

SUMMARY: On June 14, 2002, the Bureau of Industry and Security (“BIS”) published a notice in the Federal Register that set forth a list of persons in foreign countries who were parties to past export transactions where pre-license checks (“PLC”) or post-shipment verifications (“PSV”) could not be conducted for reasons outside the control of the U.S. Government (“Unverified List”). Additionally, on July 16, 2004, BIS published a notice in the Federal Register that advised exporters that the Unverified List would also include persons in foreign countries in transactions where BIS is not able to verify the existence or authenticity of the end-user, intermediate consignee, ultimate consignee, or other party to the transaction. These notices advised exporters that the involvement of a listed person as a party to a proposed transaction constitutes a “red flag” as described in the guidance set forth in Supplement No. 3 to 15 CFR Part 732, requiring heightened scrutiny by the exporter before proceeding with such a transaction. The notices also stated that, when warranted, BIS would remove persons from the Unverified List. This notice removes one entity from the Unverified List based upon recently conducted PSVs or scheduled PSVs. The entity is: Fuchs Oil Middle East Ltd., P.O. Box 7955, Sharjah Airport Intl. Free Zone, Sharjah, United Arab Emirates.

DATES: This notice is effective September 30, 2008.

FOR FURTHER INFORMATION CONTACT: Todd E. Willis, Assistant Director, Office of Enforcement Analysis, Bureau of Industry and Security, Telephone Number: (202) 482-4255.

SUPPLEMENTARY INFORMATION: In administering export controls under the Export Administration Regulations (15 CFR Parts 730 to 774) (“EAR”), BIS carries out a number of preventive enforcement activities with respect to individual export transactions. Such activities are intended to assess diversion risks, identify potential violations, verify end-uses, and determine the suitability of end-users to receive U.S. commodities or technology. In carrying out these activities, BIS officials, or officials of other federal agencies acting on BIS's behalf, conduct PLCs in appropriate situations to verify the bona fides of the transaction and the suitability of the end-user or ultimate consignee. In addition, such officials sometimes carry out PSVs to ensure that U.S. exports have actually been delivered to the authorized end-user, are being used in a manner consistent with the terms of a license or license exception, and are otherwise consistent with the EAR.

In a notice issued on June 14, 2002 (67 FR 40910), BIS set forth an Unverified List of certain foreign end-users and consignees involved in export transactions where BIS officials, or other federal officials acting on BIS's behalf, were unable to perform a PLC or PSV with respect to certain export transactions for reasons outside the control of the U.S. Government (including a lack of cooperation by the host government authority, the end-user, or the ultimate consignee). On July 16, 2004, BIS published a notice in the Federal Register that advised exporters that the Unverified List would also include persons in foreign countries in transactions where BIS is not able to verify the existence or authenticity of the end-user, intermediate consignee, ultimate consignee, or other party to the transaction. The notices further stated that BIS may periodically remove names of persons from the list when warranted.

On October 19, 2006, BIS added to the Unverified List Fuchs Oil Middle East Ltd., P.O. Box 7955, Sharjah Airport Intl. Free Zone, Sharjah, United Arab Emirates because BIS was unable to conduct a PLC, a PSV, and/or was unable to verify the existence or authenticity of an end user, intermediate consignee, ultimate consignee, or other party to an export transaction. 71 FR 61706. This notice removes the Fuchs Oil Middle East Ltd. entry from the Unverified List because BIS recently conducted or scheduled a PSV.

The Unverified List, as modified by this notice, is set forth below.

Dated: September 12, 2008.
Darryl W. Jackson,
Assistant Secretary of Commerce for Export Enforcement.

Unverified List (As of May 2, 2008)

The Unverified List includes names, countries, and last known addresses of foreign persons involved in export transactions with respect to which: the Bureau of Industry and Security (“BIS”) could not conduct a pre license check (“PLC”) or a post shipment verification (“PSV”) for reasons outside of the U.S. Government's control; BIS was not able to verify the existence or authenticity of the end user, intermediate consignee, ultimate consignee or other party to an export transaction; and/or the person is affiliated with a person on the Unverified List by virtue of ownership, control, position of responsibility, or other affiliation or connection in the conduct of trade or business. Any transaction to which a listed person is a party will be deemed to raise a “red flag” with respect to such transaction within the meaning of the guidance set forth in Supplement No. 3 to 15 CFR Part 732. The red flag applies to the person on the Unverified List regardless of where the person is located in the country included on the list.

Name | Country | Last known address
Lucktrade International | Hong Kong Special Administrative Region | P.O. Box 91150, Tsim Sha Tsui, Hong Kong.
Brilliant Intervest | Malaysia | 14-1, Persian 65C, Jalan Pahang Barat, Kuala Lumpur, 53000.
Dee Communications M SDN. BHD | Malaysia | G5/G6, Ground Floor, Jin Gereja, Johor Bahru.
Peluang Teguh | Singapore | 203 Henderson Road #09-05H, Henderson Industrial Park.
Lucktrade International PTE Ltd | Singapore | 35 Tannery Road #01-07 Tannery Block, Ruby Industrial Complex, Singapore 347740.
Arrow Electronics Industries | United Arab Emirates | 204 Arbift Tower, Benyas Road, Dubai.
Jetpower Industrial Ltd | Hong Kong Special Administrative Region | Room 311, 3rd Floor, Wing On Plaza, 62 Mody Road, Tsim Sha Tsui East, Kowloon.
Onion Enterprises Ltd | Hong Kong Special Administrative Region | Room 311, 3rd Floor, Wing On Plaza, 62 Mody Road, Tsim Sha Tsui East, Kowloon.
Lucktrade International | Hong Kong Special Administrative Region | Room 311, 3rd Floor, Wing On Plaza, 62 Mody Road, Tsim Sha Tsui East, Kowloon.
Litchfield Co. Ltd | Hong Kong Special Administrative Region | Room 311, 3rd Floor, Wing On Plaza, 62 Mody Road, Tsim Sha Tsui East, Kowloon.
Sunford Trading Ltd | Hong Kong Special Administrative Region | Unit 2208, 22/F118 Connaught Road West.
Parrlab Technical Solutions, LTD | Hong Kong Special Administrative Region | 1204, 12F Shanghai Industrial Building, 48-62 Hennesey Road, Wan Chai.
T.Z.H. International Co. Ltd | Hong Kong Special Administrative Region | Room 23, 2/F, Kowloon Bay Ind Center, No. 15 Wany Hoi Rd, Kowloon Bay.
Design Engineering Center | Pakistan | House 184, Street 36, Sector F-10/1, Islamabad.
Kantry | Russia | 13/2 Begovaya Street, Moscow.
Etalon Company | Russia | 20B Berezhkovskaya Naberezhnaya, Moscow.
Pskovenergo Service | Russia | 47-A Sovetskaya Street, Pskov, Russia Federation, 180000.
Sheeba Import Export | Yemen | Hadda Street, Sanaa.
Aerospace Consumerist Consortium FZCO | United Arab Emirates | Sheikh Zayed Road, P.O. Box 17951, Jebel Ali Free Zone, Dubai and Dubai International Airport, Dubai, 3365.
Medline International LLC | United Arab Emirates | P.O. Box 86343, Dubai.
Al Aarif Factory Equipment Trading LLC | United Arab Emirates | Sheikh Fahad Saad Alsbah Bldg., Al Maktoum Street, P.O. Box 28162, Dubai, UAE (also located in Al Quoz district of Dubai).
Al-Thamin General Trading LLC | United Arab Emirates | P.O. Box 41364, Dubai, UAE.
Amiran Trading Company | United Arab Emirates | Arbift Tower, 1st Floor, Flat No. 1803, Deira, UAE, also P.O. Box 6 1463, Jebel Ali, Dubai, UAE.
Bazar Trading Co | United Arab Emirates | Baniyas Tower, Suite 212, Dubai, UAE.
Davood Khosrojerdi, dba Al Musafer Tourism and Cargo | United Arab Emirates | Concord Tower, Al Maktoum Street, PO Box 77900, Dubai, UAE.
Part Tech Co | United Arab Emirates | Baniyas Tower, Suite 212, Dubai, UAE.
Parto Abgardan | United Arab Emirates | Showroom #5, Sheikh Rashid bin Khalifa al Maktoum building, Dubai, UAE.
Reza Nezam Trading | United Arab Emirates | Al Dana Center, Al Maktoum Street, P.O. Box 41382, Dubai, UAE.
Sarelica (Sar Elica) FZC | United Arab Emirates | Bldg. #3, Office No. 3 G-08, P.O. Box 41 71 0, Hamariya Free Zone, Sharjah, UAE.
Semicom Technology International LLC | United Arab Emirates | Office No. 18, 6th Floor, Horizons Business Centre, Al-Doha Centre, Al-Maktoum St., P.O. Box 41096, Dubai, UAE.
Vitaswiss Limited | United Arab Emirates | PO Box 61069, Office #R/A 8 CB03, UAE.
Centre Bright Company | Hong Kong Special Administrative Region | Unit 7A, Nathan Commercial Building, 430-436 Nathan Road, Kowloon City, Hong Kong.
IC Trading Ltd | Russia | Yauzskaya Str. 8, Bldg 2, Moscow, Russia.
Al Minzal Medical Equipment & Instruments | United Arab Emirates | P.O. Box 31107, Sharjah, UAE.
JSC Chop Vityaz-S | Russia | 146 Unikh Pionerov Ave, Samara, Russia.
Sistem Dizayners Co | Baku, Azerbaijan | APA: 2 NO.: 60, Merdanov Gardashlari St., Baku, Azerbaijan.

[FR Doc. E8-22985 Filed 9-29-08; 8:45 am]

BILLING CODE 3510-33-P